ENVIRONMENTAL PROTECTION AGENCY

[EPA-HQ-OPP-2022-0223; FRL-12081-01-OCSPP]

Chlorpyrifos; Notice of Receipt of Request To Cancel Certain Pesticide Registrations and Amend Registrations To Terminate Certain Uses

AGENCY: Environmental Protection Agency (EPA).

ACTION: Notice.

SUMMARY: In accordance with the Federal Insecticide, Fungicide and Rodenticide Act (FIFRA), the Environmental Protection Agency (EPA or Agency) is providing this notice of receipt of and soliciting comment on the requests identified in Unit II. received from the registrants to voluntarily cancel their registrations of certain products containing the pesticide chlorpyrifos, or to amend their chlorpyrifos registrations to terminate one or more uses. EPA intends to grant these requests at the close of the comment period for this announcement unless the Agency receives substantive comments within the comment period that would merit its further review of the requests or if the registrant withdraws their request to cancel these uses or products. If these requests are granted, EPA will issue a final cancelation order under which any sale, distribution, or use of the products listed in this notice will be permitted after the registrations have been cancelled or the uses terminated only if such sale, distribution, or use is consistent with the terms described in the final order.

DATES: Comments must be received on or before August 14, 2024.

ADDRESSES: Submit your comments, identified by docket identification (ID) number EPA-HQ-OPP-2022-0223, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare comment for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from the registrants identified in Table 3 of this unit to cancel certain pesticide products or uses registered under FIFRA section 3 (7 U.S.C. 136a) or 24(c) (7 U.S.C. 136v(c)). These registrations are listed in sequence by registration number in table 1 and table 2 of this unit.

The current voluntary requests for termination of certain registered chlorpyrifos uses submitted by Loveland and as reflected in this notice supersede the requests for voluntary cancellation previously submitted by Loveland for which EPA provided notice in the Federal Register on August 29, 2023 (88 FR 59521) (FRL-5993-05- OCSPP), Chlorpyrifos; Notice Receipt of Request to Voluntarily Cancel Certain Pesticide Registrations.

Unless the Agency determines that there are substantive comments that warrant further review of the requests or the registrants withdraw their requests, EPA intends to issue an order in the Federal Register cancelling registrations and terminating uses as requested after the close of the comment period.

Table 1—Chlorpyrifos Registrations With Pending Requests To Terminate Specific Uses
Registration No. | Product name | Company | Uses to be terminated
19713-505 | Drexel Chlorpyrifos 15G | Drexel | Food uses: Asparagus (except MI), citrus orchard floors (except in AL, FL, GA, NC, SC, TX), Cole crop (Brassica) leafy vegetables, radish, rutabaga, turnip, Bok choy, broccoli, broccoli Raab, Brussels sprout, cabbage, cauliflower, Chinese broccoli, Chinese cabbage, collards, kale, and kohlrabi; corn (field, sweet, corn grown for seed), onions (dry bulb), peanuts, sorghum (grain sorghum-milo), soybeans (except in AL, CO, FL, GA, IA, IL, IN, KS, KY, MN, MO, MT, NC, ND, NE, NM, OH, OK, PA, SC, SD, TN, TX, VA, WI, WV, WY), sugar beets (except in IA, ID, IL, MI, MN, ND, OR, WA, WI), sunflower, sweet potato.
19713-520 | Drexel Chlorpyrifos 4E-AG | Drexel | Food uses: Alfalfa (except in AZ, CO, IA, ID, IL, KS, MI, MN, MO, MT, ND, NE, NM, NV, OK, OR, SD, TX, UT, WA, WI, WY), asparagus (except MI), citrus fruits and citrus orchard floors (except in AL, FL, GA, NC, SC, TX), cranberries, corn (field, sweet, corn grown for seed), cotton (except for AL, FL, GA, NC, SC, VA), figs, grapes, mint (peppermint, spearmint), onions (dry bulb), peanuts, sorghum, soybeans (except for AL, CO, FL, GA, IA, IL, IN, KS, KY, MN, MO, MT, NC, ND, NE, NM, OH, OK, PA, SC, SD, TN, TX, VA, WI, WV, WY), strawberries (except OR), sugar beets (except in IA, ID, IL, MI, MN, ND, OR, WA, WI), sunflowers, sweet potatoes, tree fruits (apples (except in AL, DC, DE, GA, ID, IN, KY, MD, MI, NJ, NY, OH, OR, PA, TN, VA, VT, WA, WV), cherries (except tart cherries in MI), nectarines, peaches (except in AL, DC, DE, FL, GA, MD, MI, NC, NJ, NY, OH, PA, SC, TX, VA, VT, WV), plums, prunes, pears), tree nuts and orchard floor (almonds, filberts, pecans, walnuts), vegetables (Brassica (Cole) leafy vegetables), radish, rutabaga, turnip, broccoli, broccoli Raab, Brussels sprout, cabbage, cauliflower, cavolo broccoli, Chinese broccoli, Chinese cabbage, collards, kale, kohlrabi, mizuna, mustard greens, mustard spinach, rape greens, legume vegetables (succulent or dried; except soybeans), adzuki beans, asparagus bean, bean, blackeyed pea, broad bean (dry and succulent), catjang, chickpea, Chinese long bean, cowpea, Crowder pea, dwarf pea, edible pod pea, English pea, fava bean, field bean, field pea, garbanzo bean, garden pea, grain lupin, green pea, guar, hyacinth pea, jack bean, lima bean (dry and green), kidney bean, lablab bean, lentil, moth bean, mung bean, navy bean, pea, pigeon pea, pinto bean, rice bean, runner bean, southern pea, sugar snap pea, sweet lupin, sword bean, tepary bean, urd bean, wax bean, white lupin, white sweet lupin, yard long bean, and wheat (except spring wheat in CO, KS, MO, MT, ND, NE, SD, WY and winter wheat in CO, IA, KS, MN, MO, MT, ND, NE, OK, SD, TX, WY).
19713-521 | Drexel Chlorpyrifos 15GR | Drexel | Food uses: Asparagus (MI only), citrus orchard floor (except in AL, FL, GA, NC, SC, TX), Cole crop (Brassica) leafy vegetables, radish, rutabaga, turnip, Bok choy, broccoli, broccoli Raab, Brussels sprout, cabbage, cauliflower, Chinese broccoli, Chinese cabbage, collards, kale and kohlrabi; corn (field, sweet, corn grown for seed), onions (dry bulb), peanuts, sorghum (grain sorghum-milo), soybeans (except in AL, CO, FL, GA, IA, IL, IN, KS, KY, MN, MO, MT, NC, ND, NE, NM, OH, OK, PA, SC, SD, TN, TX, VA, WI, WV, WY), sugar beets (except in IA, ID, IL, MI, MN, ND, OR, WA, WI), sunflowers, sweet potato.
19713-573 | Drexel Chlorpyrifos Technical | Drexel | Food uses: Alfalfa (except in AZ, CO, IA, ID, IL, KS, MI, MN, MO, MT, ND, NE, NM, NV, OK, OR, SD, TX, UT, WA, WI, WY), asparagus (MI only), banana, blueberry, caneberry, cherimoya, citrus fruits (except in AL, FL, GA, NC, SC, TX), corn, cotton (except in AL, FL, GA, NC, SC, VA), cranberries, cucumber, date, feijoa, figs, grapes, kiwifruit, leek, legume vegetables (except soybean), mint, onions (dry bulb), pea, peanuts, pepper, pumpkin, sorghum, soybean (except in AL, CO, FL, GA, IA, IL, IN, KS, KY, MN, MO, MT, NC, ND, NE, NM, OH, OK, PA, SC, SD, TN, TX, VA, WI, WV, WY), sunflowers, sugar beets (except in IA, ID, IL, MI, MN, ND, OR, WA, WI), sugarcane, strawberries (except OR), sweet potato, tree fruit (apples (except in AL, DC, DE, GA, ID, IN, KY, MD, MI, NJ, NY, OH, OR, PA, TN, VA, VT, WA, WV), pears, cherries (except tart cherries in MI), plums/prunes, peaches (except in AL, DC, DE, FL, GA, MD, MI, NC, NJ, NY, OH, PA, SC, TX, VA, VT, WV), and nectarines), tree nuts (almonds, filberts, pecans and walnuts), vegetables (cauliflower, broccoli, Brussels sprouts, cabbage, collards, kale, kohlrabi, turnips, radishes, and rutabagas), and wheat (except spring wheat in CO, KS, MO, MT, ND, NE, SD, WY and winter wheat in CO, IA, KS, MN, MO, MT, ND, NE, OK, SD, TX, WY).
19713-599 | Drexel Chlorpyrifos 4E-AG2 | Drexel | Food uses: Alfalfa (except in AZ, CO, IA, ID, IL, KS, MI, MN, MO, MT, ND, NE, NM, NV, OK, OR, SD, TX, UT, WA, WI, WY), asparagus (except in MI), citrus fruits and orchard floors (except in except in AL, FL, GA, NC, SC, TX), cranberries, corn (field, sweet, and corn grown for seed), cotton (except in AL, FL, GA, NC, SC, VA), figs, grapes, mint (peppermint, spearmint), onions (dry bulb), peanuts, sorghum, soybeans (except in AL, CO, FL, GA, IA, IL, IN, KS, KY, MN, MO, MT, NC, ND, NE, NM, OH, OK, PA, SC, SD, TN, TX, VA, WI, WV, WY), strawberries (except in OR), sugar beets (except in IA, ID, IL, MI, MN, ND, OR, WA, WI), sunflowers, sweet potatoes, tree fruits (apples (except in AL, DC, DE, GA, ID, IN, KY, MD, MI, NJ, NY, OH, OR, PA, TN, VA, VT, WA, WV), cherries (except for tart cherries in MI), nectarines, peaches [except in AL, DC, DE, FL, GA, MD, MI, NC, NJ, NY, OH, PA, SC, TX, VA, VT, WV), pears, plums, prunes); tree nuts and orchard floors (almonds, filberts, walnuts, pecans); vegetables (Brassica (Cole) leafy vegetables), radish, rutabaga, turnip, broccoli, broccoli Raab, Brussels sprout, cabbage, cauliflower, cavolo broccoli, Chinese broccoli, Chinese cabbage, collards, kale, kohlrabi, mizuna, mustard greens, mustard spinach, rape greens; legume vegetables (succulent and dried, except soybean): adzuki beans, asparagus bean, bean, blackeyed pea, broad bean (dry and succulent), catjang, chickpea, Chinese long bean, cowpea, Crowder pea, dwarf pea, edible pod pea, English pea, fava bean, field bean, field pea, garbanzo bean, garden pea, grain lupin, green pea, guar, hyacinth pea, jack bean, lima bean (dry and green), kidney bean, lablab bean, lentil, moth bean, mung bean, navy bean, pea, pigeon pea, pinto bean, rice bean, runner bean, southern pea, sugar snap pea, sweet lupin, sword bean, tepary bean, urd bean, wax bean, white lupin, white sweet lupin, yard long bean; wheat (except spring wheat in CO, KS, MO, MT, ND, NE, SD, WY and winter wheat in CO, IA, KS, MN, MO, MT, ND, NE, OK, SD, TX, WY).
19713-671 | Drexel Lambda Fos Insecticide | Drexel | Food uses: Alfalfa (except in AZ, CO, IA, ID, IL, KS, MI, MN, MO, MT, ND, NE, NM, NV, OK, OR, SD, TX, UT, WA, WI, WY), Brussels sprout, corn (field, sweet, and corn grown for seed), cotton (except in AL, FL, GA, NC, SC, VA), sorghum (grain sorghum-milo), soybeans (except in AL, CO, FL, GA, IA, IL, IN, KS, KY, MN, MO, MT, NC, ND, NE, NM, OH, OK, PA, SC, SD, TN, TX, VA, WI, WV, WY), sunflowers, tree fruits (apples (except in AL, DC, DE, GA, ID, IN, KY, MD, MI, NJ, NY, OH, OR, PA, TN, VA, VT, WA, WV), cherries (except for tart cherries in MI), nectarines, peaches (except in AL, DC, DE, FL, GA, MD, MI, NC, NJ, NY, OH, PA, SC, TX, VA, VT, WV), pears, plums, prunes); tree nuts (almonds, filberts, walnuts, pecans); wheat (except spring wheat in CO, KS, MO, MT, ND, NE, SD, WY and winter wheat in CO, IA, KS, MN, MO, MT, ND, NE, OK, SD, TX, WY).
34704-857 | Warhawk | Loveland | Food uses: Alfalfa (except in AZ, CO, IA, ID, IL, KS, MI, MN, MO, MT, ND, NE, NM, NV, OK, OR, SD, TX, UT, WA, WI, WY), asparagus (except in MI), citrus fruits and orchard floors (except in except in AL, FL, GA, NC, SC, TX), Brassica (Cole) crop leafy vegetables, radish, rutabaga, turnip, broccoli, broccoli Raab, Brussels sprout, cabbage, cauliflower, cavolo broccoli, Chinese broccoli, Chinese cabbage, collards, kale, kohlrabi, mizuna, mustard greens, mustard spinach, rape greens; corn (field, sweet, and corn grown for seed), cotton (except in AL, FL, GA, NC, SC, VA), cranberry, fig, grape; legume vegetables (succulent or dried, except soybeans), Adzuki bean, bean, blackeyed pea, broad bean (dry and succulent), catjang, chickpea, cowpea, crowder pea, English pea, field bean, field pea, garden pea, grain lupin, green pea, guar, kidney bean, lablab bean, lentil, lima bean (dry and green), moth bean, mung bean, navy bean, pea, pigeon pea, pinto bean, rice bean, southern pea, sweet lupin, tepary bean, urd bean, white lupin, white sweet lupin; mint (peppermint, spearmint), onion (dry bulb), peanut, sorghum (grain sorghum-milo), soybean (except in AL, CO, FL, GA, IA, IL, IN, KS, KY, MN, MO, MT, NC, ND, NE, NM, OH, OK, PA, SC, SD, TN, TX, VA, WI, WV, WY), strawberry (except in OR), sugar beets (except in IA, ID, IL, MI, MN, ND, OR, WA, WI), sunflower, sweet potato, tree fruits (apples (except in AL, DC, DE, GA, ID, IN, KY, MD, MI, NJ, NY, OH, OR, PA, TN, VA, VT, WA, WV), cherries [except for tart cherries in MI), nectarines, peaches (except in AL, DC, DE, FL, GA, MD, MI, NC, NJ, NY, OH, PA, SC, TX, VA, VT, WV), pears, plums, prunes); tree nuts and orchard floor (almonds, filberts, walnuts, pecans), wheat (except spring wheat in CO, KS, MO, MT, ND, NE, SD, WY and winter wheat in CO, IA, KS, MN, MO, MT, ND, NE, OK, SD, TX, WY).
34704-1077 | Warhawk Clear form | Loveland | Food uses: Alfalfa (except in AZ, CO, IA, ID, IL, KS, MI, MN, MO, MT, ND, NE, NM, NV, OK, OR, SD, TX, UT, WA, WI, WY), asparagus (except in MI), citrus fruits and orchard floors (except in AL, FL, GA, NC, SC, TX), Brassica (Cole) leafy vegetables, radish, rutabaga, turnip, broccoli, broccoli Raab, Brussels sprout, cabbage, cauliflower, cavolo broccoli, Chinese broccoli, Chinese cabbage, collards, kale, kohlrabi, mizuna, mustard greens, mustard spinach, rape greens; corn (field, sweet, and corn grown for seed), cotton (except in AL, FL, GA, NC, SC, VA), cranberry, fig, grape, legume vegetables (succulent or dried, except soybeans), Adzuki bean, bean, blackeyed pea, broad bean (dry and succulent), catjang, chickpea, cowpea, crowder pea, English pea, field bean, field pea, garden pea, grain lupin, green pea, guar, lima bean (dry and green), kidney bean, lablab bean, lentil, moth bean, mung bean, navy bean, pea, pigeon pea, pinto bean, rice bean, southern pea, sweet lupin, tepary bean, urd bean, white lupin, white sweet lupin; mint (peppermint, spearmint), onion (dry bulb), peanut, sorghum (grain sorghum-milo), soybean (except in AL, CO, FL, GA, IA, IL, IN, KS, KY, MN, MO, MT, NC, ND, NE, NM, OH, OK, PA, SC, SD, TN, TX, VA, WI, WV, WY), strawberry (except in OR), sugar beets (except in IA, ID, IL, MI, MN, ND, OR, WA, WI), sunflower, sweet potato, tree fruits (apples (except in AL, DC, DE, GA, ID, IN, KY, MD, MI, NJ, NY, OH, OR, PA, TN, VA, VT, WA, WV), cherries (except for tart cherries in MI), nectarines, peaches (except in AL, DC, DE, FL, GA, MD, MI, NC, NJ, NY, OH, PA, SC, TX, VA, VT, WV), pears, plums, prunes); tree nuts and orchard floor (almonds, filberts, walnuts, pecans), wheat (except spring wheat in CO, KS, MO, MT, ND, NE, SD, WY and winter wheat in CO, IA, KS, MN, MO, MT, ND, NE, OK, SD, TX, WY).
34704-1086 | Match-Up Insecticide | Loveland | Food uses: Citrus orchard floors (except in AL, FL, GA, NC, SC, TX), field corn and sweet corn (grain, silage and corn grown for seed), cotton (except in AL, FL, GA, NC, SC, VA); legume vegetables (succulent or dried, except soybeans), Adzuki bean, bean, blackeyed pea, broad bean (dry and succulent), catjang, chickpea, cowpea, crowder pea, English pea, field bean, field pea, garden pea, grain lupin, green pea, guar, lima bean (dry and green), kidney bean, lablab bean, lentil, moth bean, navy bean, mung bean, pea, pigeon pea, pinto bean, rice bean, southern pea, sweet lupin, tepary bean, urd bean, white lupin, white sweet lupin; peanut, soybean (except in AL, CO, FL, GA, IA, IL, IN, KS, KY, MN, MO, MT, NC, ND, NE, NM, OH, OK, PA, SC, SD, TN, TX, VA, WI, WV, WY).

As noted in table 1, Drexel and Loveland requested that several food uses be terminated, except in certain enumerated states; however, some of the uses identified in the table are not registered in states excluded from termination. Where the uses are not currently registered in those states, EPA intends to simply approve the use termination requests that are applicable, i.e., cancellation of use in those states where the use is registered, except in the enumerated states where the use is also registered. The request not to terminate uses in states where the product is not registered will not result in the product being registered in those states; registration of those uses in additional states must be accomplished through the FIFRA section 3 registration process.

Specifically, Drexel and Loveland requested that the use on apples be terminated, except in Idaho, Oregon, and Washington, among other states, on EPA Reg. Nos. 19713-520, 19713-599, 19713-671, 34704-857, and 34704-1077; however, some of the apple uses on those registrations are only permitted in states east of the Rockies. For those apple uses that are currently not permitted in Idaho, Oregon, and Washington, the request not to terminate use on apples in those states has no effect. Similarly, Drexel and Loveland requested that the use on wheat be terminated, except in Missouri (spring and winter wheat) or Iowa (winter wheat), on EPA Reg. Nos. 19713-520, 19713-599, 19713-671, 34704-857, and 34704-1077. But because these products are not registered for use on wheat in those states, that request has no effect. EPA intends to approve the requests to terminate uses that are registered, except for the uses that are requested to be retained where those uses are currently registered.

Table 2—Chlorpyrifos Product Registrations With Pending Requests for Cancellation
EPA Registration No. | Product name | Company | Active ingredients
19713-518 | Drexel Chlorpyrifos Concentrate | Drexel | Chlorpyrifos.
19713-527 | Drexel CHLOR-PY-REX Chlorpyrifos Insecticide | Drexel | Chlorpyrifos.
19713-575 | Drexel Chlorpyrifos 99% Technical | Drexel | Chlorpyrifos.

Table 3—Registrants Requesting Voluntary Cancellation and/or Termination or Amendment of Uses
EPA company No. | Company name and address
19713 | Drexel Chemical Company, Agent name: Lewis and Harrison, 2461 South Clark Street, Suite 710, Arlington, VA 22202.
34704 | Loveland Product, Inc. (LPI), 3005 Rocky Mountain Ave., Loveland, CO 80538.

III. What is the Agency's authority for taking these actions?

FIFRA section 6(f)(1) (7 U.S.C. 136d(f)(1)) provides that a registrant of a pesticide product may at any time request that any of its pesticide registrations be cancelled or cancel registered uses for a pesticide. FIFRA further provides that, before acting on the request, EPA must publish a notice of receipt of any such request in the Federal Register and provide a 30-day public comment period on the request for voluntary cancellation or use termination. 7 U.S.C. 136d(f)(1)(B). In addition, FIFRA section 6(f)(1)(C) (7 U.S.C. 136d(f)(1)(C)) requires that EPA provide a 180-day comment period on a request for voluntary cancellation or termination of any minor agricultural use before granting the request, unless:

1. The registrant requests a waiver of the comment period, or

2. The EPA Administrator determines that continued use of the pesticide would pose an unreasonable adverse effect on the environment.

The registrants listed in table 3 of unit II. have requested that EPA waive the 180-day comment period. Accordingly, EPA is providing a 30-day comment period on the requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

If the requests for voluntary cancellation and amendments to terminate uses are granted, the Agency intends to publish a final cancellation order in the Federal Register. In any order issued in response to these requests for cancellation of product registrations and for amendments to terminate uses, EPA proposes to include the following provisions for the treatment of any existing stocks of the products listed in tables 1 and 2 of unit II:

• Sale and distribution of existing stocks of Drexel CHLOR-PY-REX Chlorpyrifos Insecticide (EPA Reg. No. 19713-527), Drexel Chlorpyrifos Technical (EPA Reg. No. 19713-573) and Drexel Chlorpyrifos 99% Technical (EPA Reg. No. 19713-575) will not be permitted after the final cancellation order is issued.

• Sale and distribution of existing stocks for the following products will be permitted until April 30, 2025:

—Drexel Chlorpyrifos 15G (EPA Reg. No. 19713-505).

—Drexel Chlorpyrifos 4E-AG (EPA Reg. No. 19713-520).

—Drexel Chlorpyrifos 15GR (EPA Reg. No. 19713-521).

—Drexel Chlorpyrifos 4E-AG2 (EPA Reg. No. 19713-599).

—Drexel Lambda Fos Insecticide (EPA Reg. No. 19713-671).

—Warhawk (EPA Reg. No. 34704-857).

—Warhawk Clear form (EPA Reg. No. 34704-1077); and

—Match-Up Insecticide (EPA Reg. No. 34704-1086).

• Use of existing stocks of the following products on food, food processing sites, and food manufacturing sites must be consistent with the product labeling and will be permitted until June 30, 2025:

—Drexel Chlorpyrifos 15G (EPA Reg. No. 19713-505).

—Drexel Chlorpyrifos 4E-AG (EPA Reg. No. 19713-520).

—Drexel Chlorpyrifos 15GR (EPA Reg. No. 19713-521).

—Drexel Chlorpyrifos 4E-AG2 (EPA Reg. No. 19713-599).

—Drexel Lambda Fos Insecticide (EPA Reg. No. 19713-671).

—Warhawk (EPA Reg. No. 34704-857).

—Warhawk Clear form (EPA Reg. No. 34704-1077); and

—Match-Up Insecticide (EPA Reg. No. 34704-1086).

• Use of existing stocks of these products for non-food purposes will be permitted until existing stocks are exhausted, as long as such use is in accordance with the labeling.

• Use of existing stocks of Drexel Chlorpyrifos Concentrate (EPA Reg. No. 19713-518), will be permitted until existing stocks are exhausted, as long as such use is in accordance with the labeling as this product is not registered for any food uses.

After the dates identified in the final cancellation order, sale and distribution of existing stocks will be prohibited, except for export consistent with FIFRA section 17 (7 U.S.C. 136o), or for proper disposal.

Authority: 7 U.S.C. 136 et seq.

Dated: July 9, 2024.
Jean Anne Overstreet,
Director, Pesticide Re-Evaluation Division, Office of Pesticide Programs.

[FR Doc. 2024-15451 Filed 7-12-24; 8:45 am]

BILLING CODE 6560-50-P